DEPARTMENT OF ENERGY

Federal Energy Regulatory Commission

Combined Notice of Filings #1

June 18, 2010.

Take notice that the Commission received the following electric rate filings:

Docket Numbers: ER05-1482-006; ER06-442-001; ER08-1168-003; ER09-1505-004; ER94-1188-050; ER98-4540-019; ER99-1623-019.

Applicants: Kentucky Utilities Company, LG&E Energy Marketing Inc., Louisville Gas & Electric Company, Electric Energy, Inc., Stony Creek Wind Farm, LLC, Munnsville Wind Farm, LLC, Midwest Electric Power, Inc.; LG&E Energy Marketing-Hadson Energy.

Description: Change in Status Filing of LG&E Energy Marketing Inc., et al.

Filed Date: 06/18/2010.

Accession Number: 20100618-5026.

Comment Date: 5 p.m. Eastern Time on Friday, July 9, 2010.

Docket Numbers: ER01-1099-014; ER02-1406-015.

Applicants: Cleco Power LLC; Acadia Power Partners, LLC.

Description: Cleco Companies submits Simultaneous Import Limitation data filing.

Filed Date: 06/17/2010.

Accession Number: 20100617-0043.

Comment Date: 5 p.m. Eastern Time on Thursday, July 8, 2010.

Docket Numbers: ER10-863-002.

Applicants: Midwest Independent System Operator, Inc.

Description: Midwest Independent Transmission System Operator, Inc submits proposed revisions to the Agreement of Transmission Facilities Owners to Organize the Midwest Independent Transmission System Operator.

Filed Date: 06/17/2010.

Accession Number: 20100618-0201.

Comment Date: 5 p.m. Eastern Time on Thursday, July 8, 2010.

Docket Numbers: ER10-355-000.

Applicants: AEP Appalachian Transmission Company, In, AEP Indiana Michigan Transmission Company, AEP Kentucky Transmission Company, Inc., AEP Ohio Transmission Company, Inc., AEP Oklahoma Transmission Company, Inc., AEP Southwestern Transmission Company, Inc., AEP West Virginia Transmission Company, Inc.

Description: American Electric Power Service Corporation submit its Annual Update Informational filings in two parts on May 25, 2010 and supplement its filings on 6/8/10.

Filed Date: 05/25/2010; 06/08/2010.

Accession Number: 20100608-5093; 20100525-5113; 20100525-5114.

Comment Date: 5 p.m. Eastern Time on Tuesday, June 29, 2010.

Docket Numbers: ER10-1154-001.

Applicants: Buy Energy Direct, LLC.

Description: Buy Energy Direct, LLC submits Substitute Original Sheet 3 to Rate Schedule FERC No 1 to be effective 6/30/10.

Filed Date: 06/16/2010.

Accession Number: 20100617-0203.

Comment Date: 5 p.m. Eastern Time on Wednesday, July 7, 2010.

Docket Numbers: ER10-1406-000.

Applicants: Lake Cogen, Ltd.

Description: Community Power & Utility submits petition for acceptance of initial tariff, waivers and Blanket Authority.

Filed Date: 06/17/2010.

Accession Number: 20100616-0220.

Comment Date: 5 p.m. Eastern Time on Thursday, July 8, 2010.

Docket Numbers: ER10-1463-000.

Applicants: Midwest Independent Transmission System Operator, Inc.

Description: Midwest Independent Transmission System Operator, Inc submits an executed Interconnection Agreement.

Filed Date: 06/16/2010.

Accession Number: 20100617-0201.

Comment Date: 5 p.m. Eastern Time on Wednesday, July 7, 2010.

Docket Numbers: ER10-1463-001.

Applicants: Midwest Independent Transmission System Operator, Inc.

Description: Midwest Independent Transmission System Operator, Inc submits an executed Interconnection Agreement with City of Columbia et al.

Filed Date: 06/17/2010.

Accession Number: 20100617-0206.

Comment Date: 5 p.m. Eastern Time on Thursday, July 8, 2010.

Docket Numbers: ER10-1464-000.

Applicants: Black Hills Power, Inc.

Description: Black Hills Power, Inc submits proposed updated rates for Reactive Supply and Voltage Control from Generation of Other Sources Service.

Filed Date: 06/16/2010.

Accession Number: 20100617-0202.

Comment Date: 5 p.m. Eastern Time on Wednesday, July 7, 2010.

Docket Numbers: ER10-1470-000.

Applicants: Plymouth Rock Energy, LLC.

Description: Petition for acceptance of initial tariff, waivers and blanket authorization re Plymouth Rock Energy, LLC.

Filed Date: 06/17/2010.

Accession Number: 20100617-0207.

Comment Date: 5 p.m. Eastern Time on Thursday, July 8, 2010.

Docket Numbers: ER10-1471-000.

Applicants: PJM Interconnection, L.L.C.

Description: PJM Interconnection, LLC submits an executed interconnection service agreement with The Dayton Power and Light Company.

Filed Date: 06/17/2010.

Accession Number: 20100617-0205.

Comment Date: 5 p.m. Eastern Time on Thursday, July 8, 2010.

Docket Numbers: ER10-1472-000.

Applicants: Choice Energy.

Description: Application of Choice Energy LLC for order accepting rates for filing and granting waivers and blanket approvals re Choice Energy, LLC.

Filed Date: 06/17/2010.

Accession Number: 20100617-0210.

Comment Date: 5 p.m. Eastern Time on Thursday, July 8, 2010.

Docket Numbers: ER10-1473-000.

Applicants: Pennsylvania Power Company.

Description: Pennsylvania Power Company submits tariff filing per 35: Compliance Baseline Filing to be effective 6/17/2010.

Filed Date: 06/17/2010.

Accession Number: 20100617-5094.

Comment Date: 5 p.m. Eastern Time on Thursday, July 8, 2010.

Docket Numbers: ER10-1474-000.

Applicants: Metropolitan Edison Company.

Description: Metropolitan Edison Company submits tariff filing per 35: Compliance Baseline filing to be effective 6/17/2010.

Filed Date: 06/17/2010.

Accession Number: 20100617-5098.

Comment Date: 5 p.m. Eastern Time on Thursday, July 8, 2010.

Docket Numbers: ER10-1475-000.

Applicants: Allegheny Energy, Inc.

Description: Allegheny Energy, Inc. request a waiver of certain affiliate restriction requirements.

Filed Date: 06/17/2010.

Accession Number: 20100618-0202.

Comment Date: 5 p.m. Eastern Time on Thursday, July 8, 2010.

Docket Numbers: ER10-1476-000.

Applicants: Tampa Electric Company.

Description: Tampa Electric Company submits tariff filing per 35.12: Baseline-Market Based Tariff to be effective 6/18/2010.

Filed Date: 06/18/2010.

Accession Number: 20100618-5027.

Comment Date: 5 p.m. Eastern Time on Friday, July 9, 2010.

Docket Numbers: ER10-1477-000.

Applicants: FirstEnergy Solutions Corp.

Description: FirstEnergy Solutions Corp. submits tariff filing per 35: Compliance Baseline Filing to be effective 6/18/2010.

Filed Date: 06/18/2010.

Accession Number: 20100618-5031.

Comment Date: 5 p.m. Eastern Time on Friday, July 9, 2010.

Docket Numbers: ER10-1478-000.

Applicants: Pennsylvania Electric Company.

Description: Pennsylvania Electric Company submits tariff filing per 35.12: Compliance Baseline Filing to be effective 6/18/2010.

Filed Date: 06/18/2010.

Accession Number: 20100618-5039.

Comment Date: 5 p.m. Eastern Time on Friday, July 9, 2010.

Docket Numbers: ER10-1479-000.

Applicants: Carolina Power & Light Company.

Description: Progress Energy Carolinas, Inc submits revisions to the Network Integration Transmission Service Agreement with North Carolina Eastern Municipal Power Agency to be effective 7/1/10.

Filed Date: 06/18/2010.

Accession Number: 20100618-0208.

Comment Date: 5 p.m. Eastern Time on Friday, July 9, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protests do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2010-15575 Filed 6-25-10; 8:45 am]

BILLING CODE 6717-01-P